DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Procurement Requirements, OMB Control Number 1910-4100. The proposed collection will collect procurement information necessary to administer and manage DOE's procurement and acquisition programs.

DATES: Comments regarding this collection must be received on or before January 5, 2022. If you anticipate that you will be submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John Harris, Office of Policy, Contract and Financial Assistance Policy Division, Office of Acquisition Management, U.S. Department of Energy, 1000 Independence Avenue SW, Washington, DC 20585-1615, by email to John.Harris@hq.doe.gov; Mr. Harris may be contacted at (202) 287-1471.

SUPPLEMENTARY INFORMATION:

This information collection request contains:

(1) OMB No.: 1910-4100;

(2) Information Collection Request Titled: Procurement Requirements;

(3) Type of Review: Renewal;

(4) Purpose: The Code of Federal Regulations (CFR); Title 48 Federal Acquisition Regulations System; Chapter 9 Department of Energy (DOE); Subchapter H Clauses and Forms; Part 952—Solicitation Provisions and Contract Clauses; and Subchapter I Agency Supplementary Regulations; Part 970 DOE Management and Operating Contracts; Section 970.52 Solicitation Provisions and Contract Clauses for Management and Operating Contracts; requires DOE to collect certain types of information from those seeking to do business with the Department or those awarded contracts by the Department. This package contains information collections necessary for the solicitation, award, administration, and closeout of procurement contracts;

(5) Annual Estimated Number of Respondents: 7,387;

(6) Annual Estimated Number of Total Responses: 7,387;

(7) Annual Estimated Number of Burden Hours: 666,082;

(8) Annual Estimated Reporting and Recordkeeping Cost Burden: $58,535,286.

Statutory Authority: 42 U.S.C. 2201.

Signing Authority

This document of the Department of Energy was signed on November 30, 2021, by John R. Bashista, Director, Office of Acquisition Management and Senior Procurement Executive, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 1, 2021.
Treena V. Garrett,
Federal Register Liaison Officer, U.S. Department of Energy.

[FR Doc. 2021-26388 Filed 12-3-21; 8:45 am]

BILLING CODE 6450-01-P